DEPARTMENT OF ENERGY

Federal Energy Regulatory Commission

Combined Notice of Filings

Take notice that the Commission has received the following Natural Gas Pipeline Rate and Refund Report filings:

Filings Instituting Proceedings

Docket Numbers: RP13-1001-000.

Applicants: Big Sandy Pipeline, LLC.

Description: Big Sandy EPC 2013 to be effective 8/1/2013.

Filed Date: 6/27/13.

Accession Number: 20130627-5039.

Comments Due: 5 p.m. ET 7/9/13.

Docket Numbers: RP13-1002-000.

Applicants: Alliance Pipeline L.P.

Description: July 1-31 2013 Auction Filing to be effective 7/1/2013.

Filed Date: 6/27/13.

Accession Number: 20130627-5056.

Comments Due: 5 p.m. ET 7/9/13.

Docket Numbers: RP13-1003-000.

Applicants: Algonquin Gas Transmission, LLC.

Description: Execution of Trading Partner Agreements to be effective 9/1/2013.

Filed Date: 6/28/13.

Accession Number: 20130628-5021.

Comments Due: 5 p.m. ET 7/10/13.

Docket Numbers: RP13-1004-000.

Applicants: Big Sandy Pipeline, LLC.

Description: Execution of Trading Partner Agreements to be effective 9/1/2013.

Filed Date: 6/28/13.

Accession Number: 20130628-5022.

Comments Due: 5 p.m. ET 7/10/13.

Docket Numbers: RP13-1005-000.

Applicants: Bobcat Gas Storage.

Description: Execution of Trading Partner Agreements to be effective 9/1/2013.

Filed Date: 6/28/13.

Accession Number: 20130628-5023.

Comments Due: 5 p.m. ET 7/10/13.

Docket Numbers: RP13-1006-000.

Applicants: East Tennessee Natural Gas, LLC.

Description: Execution of Trading Partner Agreements to be effective 9/1/2013.

Filed Date: 6/28/13.

Accession Number: 20130628-5024.

Comments Due: 5 p.m. ET 7/10/13.

Docket Numbers: RP13-1007-000.

Applicants: Egan Hub Storage, LLC.

Description: Execution of Trading Partner Agreements to be effective 9/1/2013.

Filed Date: 6/28/13.

Accession Number: 20130628-5025.

Comments Due: 5 p.m. ET 7/10/13.

Docket Numbers: RP13-1008-000.

Applicants: Maritimes & Northeast Pipeline, L.L.C.

Description: Execution of Trading Partner Agreements to be effective 9/1/2013.

Filed Date: 6/28/13.

Accession Number: 20130628-5026.

Comments Due: 5 p.m. ET 7/10/13.

Docket Numbers: RP13-1009-000.

Applicants: Ozark Gas Transmission, L.L.C.

Description: Execution of Trading Partner Agreements to be effective 9/1/2013.

Filed Date: 6/28/13.

Accession Number: 20130628-5027.

Comments Due: 5 p.m. ET 7/10/13.

Docket Numbers: RP13-1010-000.

Applicants: Saltville Gas Storage Company L.L.C.

Description: Execution of Trading Partner Agreements to be effective 9/1/2013.

Filed Date: 6/28/13.

Accession Number: 20130628-5028.

Comments Due: 5 p.m. ET 7/10/13.

Docket Numbers: RP13-1011-000.

Applicants: Southeast Supply Header, LLC.

Description: Execution of Trading Partner Agreements to be effective 9/1/2013.

Filed Date: 6/28/13.

Accession Number: 20130628-5029.

Comments Due: 5 p.m. ET 7/10/13.

Docket Numbers: RP13-1012-000.

Applicants: Steckman Ridge, LP.

Description: Execution of Trading Partner Agreements to be effective 9/1/2013.

Filed Date: 6/28/13.

Accession Number: 20130628-5031.

Comments Due: 5 p.m. ET 7/10/13.

Docket Numbers: RP13-1013-000.

Applicants: Texas Eastern Transmission, LP.

Description: Execution of Trading Partner Agreements to be effective 9/1/2013.

Filed Date: 6/28/13.

Accession Number: 20130628-5032.

Comments Due: 5 p.m. ET 7/10/13.

Docket Numbers: RP13-1014-000.

Applicants: Alliance Pipeline L.P.

Description: Tioga In Service Filing to be effective 8/1/2013.

Filed Date: 6/28/13.

Accession Number: 20130628-5060.

Comments Due: 5 p.m. ET 7/10/13.

Docket Numbers: RP13-1015-000.

Applicants: Texas Eastern Transmission, LP.

Description: Gas Quality—Additional Control Point to be effective 8/1/2013.

Filed Date: 6/28/13.

Accession Number: 20130628-5064.

Comments Due: 5 p.m. ET 7/10/13.

Docket Numbers: RP13-1016-000.

Applicants: Iroquois Gas Transmission System, L.P.

Description: Iroquois Gas Transmission System, L.P. submits Measurement Variance/Fuel Use Factors utilized by Iroquois during the period January 1, 2013 through June 30, 2013.

Filed Date: 6/28/13.

Accession Number: 20130628-5071.

Comments Due: 5 p.m. ET 7/10/13.

Docket Numbers: RP13-1017-000.

Applicants: Ozark Gas Transmission, L.L.C.

Description: Ozark Gas Transmission, L.L.C. submits tariff filing per 154.204: Neg Rate—Tenaska Marketing Ventures 7-1-2013 to be effective 7/1/2013.

Filed Date: 6/28/13.

Accession Number: 20130628-5075.

Comments Due: 5 p.m. ET 7/10/13.

Docket Numbers: RP13-1018-000.

Applicants: Texas Eastern Transmission, LP.

Description: EPC AUG 2013 FILING to be effective 8/1/2013.

Filed Date: 6/28/13.

Accession Number: 20130628-5224.

Comments Due: 5 p.m. ET 7/10/13.

Docket Numbers: RP13-1019-000.

Applicants: Texas Eastern Transmission, LP.

Description: Range 8929185 7-1-2013 Negotiated Rate to be effective 7/1/2013.

Filed Date: 6/28/13.

Accession Number: 20130628-5228.

Comments Due: 5 p.m. ET 7/10/13.

Docket Numbers: RP13-1020-000.

Applicants: Columbia Gas Transmission, LLC.

Description: Non-Conforming—Neg—Antero Contract no. 142047 to be effective 7/1/2013.

Filed Date: 6/28/13.

Accession Number: 20130628-5269.

Comments Due: 5 p.m. ET 7/10/13.

Docket Numbers: RP13-1021-000.

Applicants: Great Lakes Gas Transmission Limited Par.

Description: Maps 2013 Update to be effective 8/1/2013.

Filed Date: 7/1/13.

Accession Number: 20130701-5052.

Comments Due: 5 p.m. ET 7/15/13.

Docket Numbers: RP13-1022-000.

Applicants: Tallgrass Interstate Gas Transmission, L.

Description: Neg Rate 2013-07-01 Midwest Energy to be effective 7/1/2013.

Filed Date: 7/1/13.

Accession Number: 20130701-5096.

Comments Due: 5 p.m. ET 7/15/13.

Docket Numbers: RP13-1023-000.

Applicants: Gulf South Pipeline Company, LP.

Description: Cap Rel Neg Rate Agmt (QEP 37657 to BP 41074) to be effective 7/1/2013.

Filed Date: 7/1/13.

Accession Number: 20130701-5098

Comments Due: 5 p.m. ET 7/15/13.

Docket Numbers: RP13-1024-000.

Applicants: Gulf Crossing Pipeline Company LLC.

Description: Amendment to Neg Rate Agmt (Devon 10-11) to be effective 6/13/2013.

Filed Date: 7/1/13.

Accession Number: 20130701-5100.

Comments Due: 5 p.m. ET 7/15/13.

Docket Numbers: RP13-1025-000.

Applicants: Texas Gas Transmission, LLC.

Description: Reservation Charge Changes to be effective 8/1/2013.

Filed Date: 7/1/13.

Accession Number: 20130701-5101.

Comments Due: 5 p.m. ET 7/15/13.

Docket Numbers: RP13-1026-000.

Applicants: Rockies Express Pipeline LLC.

Description: Neg Rate NC 2013-07-01 Encana to be effective 7/1/2013.

Filed Date: 7/1/13.

Accession Number: 20130701-5106.

Comments Due: 5 p.m. ET 7/15/13.

Docket Numbers: RP13-1027-000.

Applicants: Texas Eastern Transmission, LP.

Description: Chesapeake 8929193 7-1-2013 Negotiated Rate to be effective 7/1/2013.

Filed Date: 7/1/13.

Accession Number: 20130701-5125.

Comments Due: 5 p.m. ET 7/15/13.

Docket Numbers: RP13-1028-000.

Applicants: Maritimes & Northeast Pipeline, L.L.C.

Description: Clean Up Negotiated Rate and Non-Conforming Agreements to be effective 8/1/2013.

Filed Date: 7/1/13.

Accession Number: 20130701-5134.

Comments Due: 5 p.m. ET 7/15/13.

Docket Numbers: RP13-1029-000.

Applicants: Saltville Gas Storage Company L.L.C.

Description: Correct Typographical Error in Capacity Release Umbrella Agreement to be effective 8/1/2013.

Filed Date: 7/1/13.

Accession Number: 20130701-5173.

Comments Due: 5 p.m. ET 7/15/13.

Docket Numbers: RP13-1030-000.

Applicants: Bobcat Gas Storage.

Description: Correct Typographical Error on Exhibit B of Hub Services Agreement to be effective 8/1/2013.

Filed Date: 7/1/13.

Accession Number: 20130701-5176.

Comments Due: 5 p.m. ET 7/15/13.

Docket Numbers: RP13-1031-000.

Applicants: Trailblazer Pipeline Company LLC.

Description: Trailblazer Pipeline Company LLC submits tariff filing per 154.312: TB Rate Case 2013-07-01 to be effective 1/1/2014.

Filed Date: 7/1/13.

Accession Number: 20130701-5183.

Comments Due: 5 p.m. ET 7/15/13.

Docket Numbers: RP13-1032-000.

Applicants: CenterPoint Energy Gas Transmission Comp.

Description: CenterPoint Energy Gas Transmission Company, LLC submits tariff filing per 154.204: CEGT LLC—Negotiated Rate Filing—July 2013 to be effective 7/1/2013.

Filed Date: 7/1/13.

Accession Number: 20130701-5187.

Comments Due: 5 p.m. ET 7/15/13.

Docket Numbers: RP13-1033-000.

Applicants: Columbia Gas Transmission, LLC.

Description: Index Discounts to be effective 8/1/2013.

Filed Date: 7/1/13.

Accession Number: 20130701-5253.

Comments Due: 5 p.m. ET 7/15/13.

Docket Numbers: RP13-1034-000.

Applicants: MIGC LLC.

Description: MIGC LLC 2013 Fuel Filing to be effective 8/1/2013.

Filed Date: 7/1/13.

Accession Number: 20130701-5324.

Comments Due: 5 p.m. ET 7/15/13

Docket Numbers: RP13-1035-000.

Applicants: WTG Hugoton, LP.

Description: Annual Fuel Retention Percentage Filing 2013-2014 to be effective 8/1/2013.

Filed Date: 7/1/13.

Accession Number: 20130701-5343.

Comments Due: 5 p.m. ET 7/15/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated July 2, 2013.
Nathaniel J. Davis, Sr.,
Deputy Secretary.

[FR Doc. 2013-16409 Filed 7-8-13; 8:45 am]

BILLING CODE 6717-01-P